DEPARTMENT OF TRANSPORTATION

Federal Aviation Administration

RTCA Special Committee 196: Night Vision Goggle (NVG) Appliances and Equipment

AGENCY: Federal Aviation Administration (FAA), DOT.

ACTION: Notice of RTCA Special Committee 196 meeting.

SUMMARY: The FAA is issuing this notice to advise the public of a meeting of RTCA Special Committee 199: Night Vision Goggle (NVG) Appliances and Equipment.

DATES: The meeting will be held January 2, 2002, starting at 1:00 p.m.

ADDRESSES: The meeting will be held at Northrop Grumman Electro-Optical Systems, 12024 Forestgate Drive, Dallas, TX 75243. This meeting will also take place by telecon. Please RSVP to Lorry Faber (609-485-5461 or Lorry.Faber@faa.gov) or Jim Winkel (972-840-5775 or jwinkel@LITTON-EOS.com) if you intend to participate by telephone. Those parties interested in attending the meeting at the Dallas location need to RSVP NLT December 20th, 2001.

FOR FURTHER INFORMATION CONTACT: RTCA Secretariat, 1140 Connecticut Avenue, NW., Washington, DC 20036; telephone (202) 833-9339; fax (202) 833-9434; Web site http://www.rtca.org.

SUPPLEMENTARY INFORMATION: Pursuant to section 10(a)(2) of the Federal Advisory Committee Act (P.L. 92-463, 5 U.S.C., Appendix 2), notice is hereby given for a Special Committee 196 meeting. The agenda will include:

• January 2:

• Opening Session (Welcome and Introductory Remarks, Agenda Overview, Approve Minutes of Previous Meeting).

• Overview of SC-196 Working Group Activities.

• Operational Concept/Requirements.

• Minimum Operational Performance Standard (MOPS)—Night Vision Imaging Systems Equipment.

• Working Group 5 (Training Guidelines/Considerations).

• EUROCAE Working Group 57 Activities.

• Other NVG Regulatory and Advisory Group Activities.

• Advisory Circular 27-IB and Advisory Circular 29-2C Amendment for inclusion of NVG Certification of Normal and Transport Category Rotorcraft.

• Technical Standard Order for Night Vision Goggles.

• Aviation Rulemaking Advisory Committee for Night Vision Goggles Training and Operations.

• Issue Paper, “Human Factors Issues for Civil Aviation Use of Night Vision Goggles”.

• Closing Session (NVG Research Requests, Status of SC-196, Other Business, Establish Agenda for Next Meeting, Date and Place of Next Meeting).

Attendance is open to the interested public but limited to space availability. With the approval of the chairmen, members of the public may present oral statements at the meeting. Persons wishing to present statements or obtain information should contact the person listed in the FOR FURTHER INFORMATION CONTACT section. Members of the public may present a written statement to the Committee at any time.

Issued in Washington, DC, on December 10, 2001.
Janice L. Peters,
FAA Special Assistance, RTCA Advisory Committee.

[FR Doc. 01-31181 Filed 12-17-01; 8:45 am]

BILLING CODE 4910-13-M